DEPARTMENT OF TRANSPORTATION

Federal Railroad Administration

49 CFR Parts 222 and 229

[Docket No. FRA-1999-6439, Notice No. 9]

[RIN 2130-AA71]

Use of Locomotive Horns at Highway-Rail Grade Crossings

AGENCY: Federal Railroad Administration (FRA), Department of Transportation (DOT).

ACTION: Interim final rule; correction and announcement of public hearing.

SUMMARY: On December 18, 2003, FRA published an Interim Final Rule (IFR) in the Federal Register (68 FR 70585) addressing the use of locomotive horns at highway-rail grade crossings. FRA is interested in receiving public comments on all aspects of the IFR. In the IFR, FRA announced that it would schedule a public hearing to allow interested parties the opportunity to comment on these issues. This notice announces the scheduling of the public hearing and makes one technical correction to the IFR.

DATES: Correction: The correction to part 222 is effective December 18, 2004.

Public Hearing: The date of the public hearing is February 4, 2004, at 9:30 a.m. in Washington, DC. Any person wishing to participate in the public hearing should notify FRA's Docket Clerk by telephone (202-493-6030), by fax (202-493-6068), or by mail at the address provided below at least five working days prior to the date of the hearing. The notification should identify the party the person represents, and the particular subject(s) the person plans to address. The notification should also provide the Docket Clerk with the participant's mailing address.

ADDRESSES: (1) Docket Clerk: Written notification should identify the docket number of this proceeding (Docket No. FRA-1999-6439) and must be submitted to Ms. Ivornette Lynch, Docket Clerk, Office of Chief Counsel, Federal Railroad Administration, RCC-10, 1120 Vermont Avenue, NW., Stop 10, Washington, DC 20590.

(2) Public Hearing: The public hearing will be held at the Washington Plaza Hotel, 10 Thomas Circle, NW., Washington, DC 20005.

FOR FURTHER INFORMATION CONTACT: Ron Ries, Office of Safety, FRA, 1120 Vermont Avenue, NW., Stop 25, Washington, DC 20590 (telephone 202-493-6299); or Kathryn Shelton, Office of Chief Counsel, FRA, 1120 Vermont Avenue, NW., Stop 10, Washington, DC 20590 (telephone 202-493-6038).

SUPPLEMENTARY INFORMATION:

Technical Correction

In interim final rule document 03-30606 beginning on page 70586 in the issue of Thursday, December 18, 2003, make the following correction:

Appendix C to Part 222 [Corrected]

1. On page 70677, in the first column, in the first paragraph, in the first line, the parenthetical sentence “(New Quiet Zones within the Chicago Region will reflect an increased risk index of 17.3 percent.)” is removed.

Issued in Washington, DC, on January 8, 2004.
Allan Rutter,
Administrator.

[FR Doc. 04-705 Filed 1-12-04; 8:45 am]

BILLING CODE 4910-06-P